FEDERAL DEPOSIT INSURANCE CORPORATION

Determination of Insufficient Assets To Satisfy Claims Against Financial Institution in Receivership

AGENCY: Federal Deposit Insurance Corporation (FDIC).

ACTION: Notice.

SUMMARY: The FDIC has determined that insufficient assets exist in the receivership of United Commercial Bank, San Francisco, California, to make any distribution to general unsecured claims, and therefore such claims will recover nothing and have no value.

DATES: The FDIC made its determination on March 24, 2011.

FOR FURTHER INFORMATION CONTACT: If you have questions regarding this notice, you may contact an FDIC Claims Agent at (949) 208-6200. Written correspondence may also be mailed to FDIC as Receiver of United Commercial Bank, Attention: Claims Agent, 40 Pacifica, 8th Floor, Irvine, California 92618.

SUPPLEMENTARY INFORMATION: On November 6, 2009, United Commercial Bank, San Francisco, California, (FIN #10147) was closed by the California Department of Financial Institutions, and the Federal Deposit Insurance Corporation (“FDIC”) was appointed as its receiver (“Receiver”). In complying with its statutory duty to resolve the institution in the method that is least costly to the deposit insurance fund, see 12 U.S.C. 1823(c)(4), the FDIC facilitated a transaction with East West Bank, Pasadena, California, to acquire the deposits and most of the assets of the failed institution.

Section 11(d)(11)(A) of the Federal Deposit Insurance Act, 12 U.S.C. 1821(d)(11)(A), sets forth the order of priority for distribution of amounts realized from the liquidation or other resolution of an insured depository institution to pay claims. Under the statutory order of priority, administrative expenses and deposit liabilities must be paid in full before any distribution may be made to general unsecured creditors or any lower priority claims.

As of December 31, 2010, the value of assets available for distribution by the Receiver, together with all expected recovery sources, including recoveries on claims against directors, officers, and other professionals, claims in bankruptcy, and refunds of Federal and State taxes, was $2,555,907,701. As of the same date, administrative expenses and depositor liabilities equaled $4,889,458,384, exceeding available assets by $2,333,550,683. Accordingly, the FDIC has determined that insufficient assets exist to make any distribution on general unsecured creditor claims (and any lower priority claims) and therefore all such claims, asserted or unasserted, will recover nothing and have no value.

Dated: March 29, 2011.
Robert E. Feldman,
Executive Secretary.

[FR Doc. 2011-7796 Filed 4-1-11; 8:45 am]

BILLING CODE 6714-01-P